DEPARTMENT OF JUSTICE

National Institute of Justice

[OJP (NIJ)-1273]

Announcement of the Availability of the National Institute of Justice Solicitation for a National Evaluation of Grants To Combat Violent Crimes Against Women on Campus

AGENCY: Office of Justice Programs, National Institute of Justice, Justice.

ACTION: Notice of solicitation.

SUMMARY: Announcement of the Availability of the National Institute of Justice “National Evaluation of Grants to Combat Violent Crimes Against Women on Campus.”

DATES: Proposals must be received by close of business July 5, 2000.

ADDRESSES: National Institute of Justice, 810 Seventh Street, NW, Washington, DC 20531.

FOR FURTHER INFORMATION CONTACT: For a copy of the solicitation, please call NCJRS 1-800-851-3420. For general information about application procedures for solicitations, please call the U.S. Department of Justice Response Center 1-800-421-6770.

SUPPLEMENTARY INFORMATION:

Authority

This action is authorized under the Omnibus Crime Control and Safe Streets Act of 1968, Sections 201-03, as amended, 42 U.S.C. 3721-23 (1994).

Background

This solicitation is based on the Congressional reporting requirements of the Higher Education Amendments of 1998 for an evaluation of the effectiveness of the Grants to Combat Violent Crimes Against Women on Campuses Program (VAW Campus Program). The National Institute of Justice (NIJ), in collaboration with the Office of Justice Programs' Violence Against Women Office (VAWO), is soliciting proposals for this national evaluation. The evaluation should examine impact issues regarding those institutions of higher education that are VAW Campus Program grantees; implementing comprehensive, coordinated responses to violence against women, including sexual assault, domestic violence, and stalking. One grant of up to $850,000 will be awarded. The duration of the evaluation is up to 36 months, with summary reports required for each component of the evaluation—baseline data, process, and impact.

Interested organizations should call the National Criminal Justice Reference Service (NCJRS) at 1-800-851-3420 to obtain a copy of “National Evaluation of Grants to Combat Violent Crimes Against Women on Campus” (refer to document no. SL000422). For World Wide Web access, connect to either NIJ at http://www.ojp.usdoj.gov/nij/funding.htm, or the NCJRS Justice Information Center at http://www.ncjrs.org/fedgrant.htm#nij.

Julie E. Samuels,
Acting Director, National Institute of Justice.

[FR Doc. 00-12565 Filed 5-17-00; 8:45 am]

BILLING CODE 4410-18-U